DEPARTMENT OF THE INTERIOR

Bureau of Land Management

[NM-930-1320-01; NMNM 3752, NMNM 3753, NMNM 3754, NMNM 3755, NMNM 3835, NMNM 3837, NMNM 3918, NMNM 3919, NMNM 6802, NMNM 7235, and NMNM 8745]

Notice of Coal Action, New Mexico

AGENCY: Bureau of Land Management, Interior.

ACTION: Notice of availability, Record of Decision (ROD) for the Ark Land Company, et al. Preference Right Lease Applications (PRLAs) San Juan County, New Mexico.

SUMMARY: The PRLA process requires that the ROD be made available to the public. The ROD is the document announcing the BLM's decision regarding PRLA commercial quantities determinations. This action establishes the availability of the ROD for the PRLAs for Ark Land Company, et al. Copies of the ROD can be obtained at the New Mexico State Office, Bureau of Land Management, P.O. Box 27115, Santa Fe, New Mexico 87502-0115

Linda S.C. Rundell,
State Director.

[FR Doc. 03-16394 Filed 6-27-03; 8:45 am]

BILLING CODE 4310-FB-P